DEPARTMENT OF HEALTH AND HUMAN SERVICES

Food and Drug Administration

[Docket No. 00N-1526]

Robert A. Fiddes; Debarment Order; Correction

AGENCY: Food and Drug Administration, HHS.

ACTION: Notice; correction.

SUMMARY: The Food and Drug Administration (FDA) is correcting a notice that appeared in the Federal Register of November 6, 2002 (67 FR 67628). The document announced the issuance of an order under the Federal Food, Drug, and Cosmetic Act debarring Dr. Robert A. Fiddes for 20 years from providing services in any capacity to a person that has an approved or pending drug product application. The document was published with an inadvertent error. This document corrects that error.

FOR FURTHER INFORMATION CONTACT: Joyce Strong, Office of Policy (HF-27), Food and Drug Administration, 5600 Fishers Lane, Rockville, MD 20857, 301-827-7010.

SUPPLEMENTARY INFORMATION: In FR Doc. 02-28256, appearing on page 67628 in the Federal Register of Wednesday, November 6, 2002, the following correction is made:

1. On page 67628, in the second column, under “II. Findings and Order”, in the fourth and fifth lines, “(21 CFR 5.99)” is corrected to read “(21 CFR 5.34)”.

Dated: January 14, 2003.
Margaret M. Dotzel,
Assistant Commissioner for Policy.

[FR Doc. 03-1255 Filed 1-17-03; 8:45 am]

BILLING CODE 4160-01-S